ENVIRONMENTAL PROTECTION AGENCY

40 CFR Part 52

[EPA-R09-OAR-2017-0218; FRL-9963-56-Region 9]

Approval of California Air Plan Revisions, Placer County Air Pollution Control District

AGENCY: Environmental Protection Agency (EPA).

ACTION: Proposed rule.

SUMMARY: The Environmental Protection Agency (EPA) is proposing to approve revisions to the Placer County Air Pollution Control District (PCAPCD or “the District”) portion of the California State Implementation Plan (SIP). These revisions concern the District's demonstration regarding Reasonably Available Control Technology (RACT) requirements for the 1997 and 2008 8-hour ozone National Ambient Air Quality Standards (NAAQS), and negative declarations for the polyester resin source category for the 2008 8-hour ozone standard. We are proposing action on local SIP revisions under the Clean Air Act (CAA or the Act). We are taking comments on this proposal and plan to follow with a final action.

DATES: Any comments must arrive by July 17, 2017.

ADDRESSES: Submit your comments, identified by Docket ID No. EPA-R09-OAR-2017-0218 at http://www.regulations.gov, or via email to Andrew Steckel, Rulemaking Office Chief at steckel.andrew@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Nicole Law, EPA Region IX, (415) 947-4126, law.nicole@epa.gov or Stanley Tong, EPA Region IX, (415) 947-4122, tong.stanley@epa.gov.

SUPPLEMENTARY INFORMATION: Throughout this document, “we,” “us” and “our” refer to the EPA.

Table of Contents

I. The State's Submittal

A. What documents did the State submit?

B. Are there other versions of these documents?

C. What is the purpose of the RACT SIP submissions?

II. The EPA's Evaluation and Proposed Action

A. How is the EPA evaluating the RACT SIP submissions?

B. Do the RACT SIP submissions meet the evaluation criteria?

C. EPA's Recommendations To Strengthen the RACT SIP

D. Proposed Action and Public Comment

III. Statutory and Executive Order Reviews

I. The State's Submittal

A. What documents did the State submit?

Table 1 lists the documents addressed by this proposal with the dates that they were adopted by the local air agency and submitted by the California Air Resources Board (CARB).

Table 1—Submitted Documents
Local agency | Document | Adopted | Submitted
PCAPCD | 2006 Reasonably Available Control Technology State Implementation Plan Update Analysis (“2006 RACT SIP”) | 8/10/06 | 7/11/07
PCAPCD | 2014 Reasonably Available Control Technology State Implementation Plan Analysis (“2014 RACT SIP”) | 4/10/14 | 7/18/14

On January 11, 2008, the submittal for PCAPCD's 2006 RACT SIP Analysis for the 1997 8-hour ozone NAAQS was deemed by operation of law to meet the completeness criteria in Title 40 of the Code of Federal Regulations (CFR) Part 51 Appendix V, which must be met before formal EPA review. On January 18, 2015, the submittal for PCAPCD's 2014 RACT SIP Analysis for the 2008 8-hour ozone NAAQS was deemed by operation of law to meet the completeness criteria as well.

B. Are there other versions of these documents?

There are no previous versions of these documents in the PCAPCD portion of the California SIP for the 1997 or 2008 8-hour ozone standards.

C. What is the purpose of the RACT SIP submissions?

Volatile organic compounds (VOCs) and nitrogen oxides (NOX) help produce ground-level ozone and smog, which harm human health and the environment. Section 110(a) of the CAA requires states to submit enforceable regulations that control VOC and NOX emissions. Sections 182(b)(2) and (f) require that SIPs for ozone nonattainment areas classified as moderate or above require implementation of RACT for any source covered by a Control Techniques Guidelines (CTG) document and for any major source of VOCs or NOX. The PCAPCD is subject to this requirement because it contains an area designated and classified as severe-15 nonattainment for the 1997 and 2008 8-hour ozone NAAQS.¹ Therefore, the PCAPCD must, at a minimum, adopt RACT-level controls for all sources covered by a CTG document and for all major non-CTG sources of VOCs or NOX within the nonattainment area. Any stationary source that emits or has the potential to emit at least 25 tons per year of VOCs or NOX is a major stationary source in a severe ozone nonattainment area (CAA sections 182(d) and (f)).

¹ 40 CFR 81.305; 75 FR 24409 at 24419 (May 5, 2010) (final rule reclassifying the Sacramento Metro area as severe-15 nonattainment for the 1997 8-hour ozone NAAQS); and 77 FR 30088 at 30104-05 (May 21, 2012) (final rule designating and classifying the Sacramento Metro area as severe-15 nonattainment for the 2008 8-hour ozone NAAQS).

Section IV.G of the preamble to the EPA's final rule to implement the 1997 8-hour ozone NAAQS (70 FR 71612, 71652-61 November 29, 2005) discusses RACT requirements. It states in part that where a RACT SIP is required, states implementing the 8-hour standard generally must assure that RACT is met either through a certification that previously required RACT controls represent RACT for 8-hour implementation purposes or through a new RACT determination. Section III.D of the preamble to the EPA's final rule to implement the 2008 ozone NAAQS (80 FR 12264, 12278-83 March 6, 2015) discusses similar requirements for RACT. The submitted documents provide PCAPCD's analyses of its compliance with the CAA section 182 RACT requirements for the 1997 and 2008 8-hour ozone NAAQS. The EPA's technical support documents (TSDs) have more information about the District's submissions and the EPA's evaluations thereof.

II. The EPA's Evaluation and Proposed Action

A. How is the EPA evaluating the RACT SIP submissions?

Generally, SIP rules must require RACT for each category of sources covered by a CTG document as well as each major source of VOCs or NOX in ozone nonattainment areas classified as moderate or above (see CAA section 182(b)(2), (f)). The PCAPCD regulates a severe ozone nonattainment area (see 40 CFR 81.305), so the District's rules must implement RACT.

Guidance and policy documents that we use to evaluate CAA section 182 RACT requirements for the applicable criteria pollutants include the following:

1. “Final Rule to Implement the 8-hour Ozone National Ambient Air Quality Standard—Phase 2” (70 FR 71612; November 29, 2005).

2. “State Implementation Plans; General Preamble for the Implementation of Title I of the Clean Air Act Amendments of 1990,” 57 FR 13498 (April 16, 1992); 57 FR 18070 (April 28, 1992).

3. “Issues Relating to VOC Regulation Cutpoints, Deficiencies, and Deviations,” EPA, May 25, 1988 (the Bluebook).

4. “Guidance Document for Correcting Common VOC & Other Rule Deficiencies,” EPA Region 9, August 21, 2001 (the Little Bluebook).

5. “State Implementation Plans; Nitrogen Oxides Supplement to the General Preamble; Clean Air Act Amendments of 1990 Implementation of Title I; Proposed Rule,” (the NOX Supplement), 57 FR 55620, November 25, 1992.

6. Memorandum from William T. Harnett to Regional Air Division Directors, (May 18, 2006), “RACT Qs & As—Reasonably Available Control Technology (RACT) Questions and Answers”.

7. RACT SIPs, Letter dated March 9, 2006 from EPA Region IX (Andrew Steckel) to CARB (Kurt Karperos) describing Region IX's understanding of what constitutes a minimally acceptable RACT SIP.

8. RACT SIPs, Letter dated April 4, 2006 from EPA Region IX (Andrew Steckel) to CARB (Kurt Karperos) listing EPA's current CTGs, Alternative Control Techniques (ACTs), and other documents which may help to establish RACT.

9. “Implementation of the 2008 National Ambient Air Quality Standards for Ozone: State Implementation Plan Requirements” (80 FR 12264; March 6, 2015).

With respect to major stationary sources, even though the PCAPCD nonattainment area was classified as “serious” nonattainment for the 1997 8-hour ozone NAAQS at the time the District adopted its 2006 RACT SIP, the District performed its 2006 RACT SIP demonstration as though it were classified as a “severe” nonattainment area by analyzing for major VOC/NOX sources that emit or have the potential to emit at least 25 tons per year (tpy) as opposed to the 50 tpy threshold associated with major sources in “serious” ozone nonattainment areas.² CAA section 182(c), (d), and (f).

² Major stationary sources of VOC or NOX in serious ozone nonattainment are those sources that emit or have the potential to emit at least 50 tons per year.

On May 5, 2010 (75 FR 24409), EPA granted the State of California's request to reclassify the Sacramento Metropolitan ozone nonattainment area, which includes parts of the PCAPCD, from “serious” to “severe-15” for the 1997 8-hour ozone NAAQS. The Sacramento Metropolitan ozone nonattainment area is also classified as severe-15 for the 2008 8-hour ozone standard. 40 CFR 81.305. We evaluated both PCAPCD's 2006 RACT SIP and its 2014 RACT SIP based on a “severe-15” classification.

B. Do the RACT SIP submissions meet the evaluation criteria?

PCAPCD's 2006 and 2014 RACT SIPs provide the District's demonstration and certification that the applicable SIP for the Placer County APCD satisfies CAA section 182 RACT requirements for the 1997 and 2008 8-hour ozone NAAQS. This conclusion is based on the District's analysis of SIP-approved requirements that apply to: (1) CTG source categories; and (2) major non-CTG stationary sources of NOX or VOC emissions. See PCAPCD's 2006 RACT SIP Tables A and B and 2014 RACT SIP Table 1.

With respect to the 2006 RACT SIP, Table A in the appendix to the 2006 RACT SIP identifies the CTG and non-CTG categories with the applicable district rules. The District did identify in Table D-1 of the 2006 RACT SIP several rules that required re-submittal since newer versions of the rules had been adopted. We reviewed the submittal status of the rules in Table D-1 and conclude that the rules have been submitted and approved into the SIP as meeting RACT.

Table B in the appendix to the 2006 RACT SIP lists major sources of VOC and NOX in the District and includes a statement that all the major stationary sources have adopted District rules that satisfy RACT requirements. We reviewed CARB's emissions inventory database for other potential CTG and/or major non-CTG sources not included in PCAPCD's analysis and identified one major point source in the District that is subject to section 182 RACT but was not identified by the District. Capital Drum Inc., in Roseville, CA is a drum manufacturer/refurbisher and emitted 34 tpy of VOCs in 2007. We determined the source is covered by District Rule 223 “Metal Container Coating,” which meets current RACT.

With respect to the 2014 RACT SIP, Table 1 of the 2014 RACT SIP lists existing District rules that have been determined to meet RACT and also lists the applicable CTGs. PCAPCD compared its rules to the CTGs and rules of other air districts to determine if they satisfied RACT. We conclude the PCAPCD rules meet RACT.

The 2014 RACT SIP identified three major stationary point sources of NOX or VOC: Two biomass boilers and a natural gas turbine. PCAPCD's 2014 RACT SIP states the biomass boilers and natural gas turbine are subject to District RACT rules.

We reviewed CARB's emissions inventory database for other potential CTG and/or major non-CTG sources not included in PCAPCD's analysis and did not identify any other major sources in the District. However, CARB's emissions inventory identified one potential CTG source under standard industrial classification (SIC) code 2821 for the manufacture of high-density polyethylene, polypropylene, and polystyrene CTG—for which PCAPCD's 2014 RACT SIP indicated it had no subject sources. Further investigation revealed that the SIC listed in CARB's emissions inventory database for Sak Construction LLC was incorrect and that Sak Construction LLC does not manufacture high-density polyethylene, polypropylene, and polystyrene and therefore is not subject to the CTG. The TSD contains further details.

Where there are no existing sources covered by a particular CTG document, states may, in lieu of adopting RACT requirements for those sources, adopt negative declarations certifying that there are no such sources in the relevant nonattainment area. Table C of PCAPCD's 2006 RACT SIP and Table 2 of PCAPCD's 2014 RACT SIP lists the District's negative declarations where it had no sources subject to the applicable CTGs for the 1997 and 2008 8-hour ozone standards respectively. The District based its conclusions on a review of its permit database, internet search, business listings, SIC codes, industrial trade association records, and yellow pages. We summarized the District's negative declarations in Table 2 below.

³ Based on PCAPCD's 2014 RACT SIP, Table 2, a negative declaration was required for the Polyester Resin CTG. PCAPCD adopted the required negative declaration and submitted it with its 2014 RACT SIP.

Table 2—PCAPCD Negative Declarations
CTG Source category | CTG Reference document | 2006 RACT SIP | 2014 RACT SIP
Aerospace Coatings | EPA-453/R-97-004, Control of Volatile Organic Compound Emissions from Coating Operations at Aerospace Manufacturing and Rework Operations | X | X
Automobile and Light-duty Truck Assembly Coatings | EPA-450/2-77-008, Control of Volatile Organic Emissions from Existing Stationary Sources—Volume II: Surface Coating of Cans, Coils, Paper, Fabrics, Automobiles, and Light-Duty Trucks | X | X
| EPA 453/R-08-006, Control Techniques Guidelines for Automobile and Light-Duty Truck Assembly Coatings | N/A* | X
Dry Cleaning (Petroleum) | EPA-450/3-82-009, Control of Volatile Organic Compound Emissions from Large Petroleum Dry Cleaners | X | X
Fiberglass Boat Manufacturing | EPA 453/R-08-004, Control Techniques Guidelines for Fiberglass Boat Manufacturing Materials | N/A* | X
Flexible Packaging Printing | EPA-453/R-06-003, Control Techniques Guidelines for Flexible Package Printing | N/A* | X
Large Appliances Surface Coatings | EPA-450/2-77-034, Control of Volatile Organic Emissions from Existing Stationary Sources—Volume V: Surface Coating of Large Appliances | X | X
| EPA 453/R-07-004, Control Techniques Guidelines for Large Appliance Coatings | N/A* | X
Magnet Wire | EPA-450/2-77-033, Control of Volatile Organic Emissions from Existing Stationary Sources—Volume IV: Surface Coating of Insulation of Magnet Wire | X | X
Metal Furniture Coatings | EPA-450/2-77-032, Control of Volatile Organic Emissions from Existing Stationary Sources—Volume III: Surface Coating of Metal Furniture | X | X
| EPA 453/R-07-005, Control Techniques Guidelines for Metal Furniture Coatings | N/A* | X
Natural Gas/Gasoline | EPA-450/3-83-007 Control of Volatile Organic Compound Equipment Leaks from Natural Gas/Gasoline Processing Plants | X | X
Paper and Fabric | EPA-450/2-77-008, Control of Volatile Organic Emissions from Existing Stationary Sources—Volume II: Surface Coating of Cans, Coils, Paper, Fabrics, Automobiles, and Light-Duty Trucks |  | X
Paper, Film and Foil Coatings | EPA 453/R-07-003, Control Techniques Guidelines for Paper, Film, and Foil Coatings | N/A* | X
Pharmaceutical Products | EPA-450/2-78-029, Control of Volatile Organic Emissions from Manufacture of Synthesized Pharmaceutical Products | X | X
Polyester Resin ³ | EPA-450/3-83-008, Control of Volatile Organic Compound Emissions from Manufacture of High-Density Polyethylene, Polypropylene, and Polystyrene Resins | X | X
| EPA-450/3-83-006, Control of Volatile Organic Compound Leaks from Synthetic Organic Chemical Polymer and Resin Manufacturing Equipment | X | X
Refineries | EPA-450/2-77-025, Control of Refinery Vacuum Producing Systems, Wastewater Separators, and Process Unit Turnarounds | X | X
| EPA-450/2-78-036, Control of Volatile Organic Compound Leaks from Petroleum Refinery Equipment | X | X
Rubber Tire | EPA-450/2-78-030, Control of Volatile Organic Emissions from Manufacture of Pneumatic Rubber Tires | X | X
Ships/Marine Coating | 61 FR 44050, 08/27/96, Control Techniques Guidelines for Shipbuilding and Ship Repair Operations (Surface Coating) | X | X
Synthetic Organic Chemicals | EPA-450/3-84-015, Control of Volatile Organic Compound Emissions from Air Oxidation Processes in Synthetic Organic Chemical Manufacturing Industry | X | X
| EPA-450/4-91-031, Control of Volatile Organic Compound Emissions from Reactor Processes and Distillation Operations in Synthetic Organic Chemical Manufacturing Industry | X | X
* These CTGs were issued between 2006-2008 and are not a requirement for the 1997 8-hour ozone standard.

PCAPCD provided its 2006 and 2014 RACT SIPs for public comment prior to the public hearing for adoption. No written comments were received by the District.

We are proposing to find that PCAPCD's 2006 and 2014 RACT SIP submissions, including the above negative declarations, adequately demonstrate that its rules satisfy RACT for the 1997 and 2008 8-hour ozone NAAQS. Our TSDs have more information on our evaluation.

C. EPA Recommendations To Strengthen the RACT SIP

The TSD for the 2014 RACT SIP describes recommendations for potential future emission reductions the next time the District opens the rules for amendment.

D. Proposed Action and Public Comment

Based on the evaluations discussed above and more fully in our TSDs, we are proposing to conclude that PCAPCD's 2006 and 2014 RACT SIPs satisfy CAA section 182 RACT requirements for the 1997 and 2008 8-hour ozone NAAQS and to fully approve these submissions into the California SIP pursuant to section 110(k)(3) of the Act.

We are also proposing to approve the submitted negative declarations for the polyester resins CTGs for the 2008 8-hr Ozone NAAQS. We will accept comments from the public on this proposal for the next 30 days. Unless we receive convincing new information during the comment period, we intend to publish a final approval action that will incorporate these RACT submissions into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (2 U.S.C. 1531-1538);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: May 16, 2017.
Alexis Strauss,
Acting Regional Administrator, Region IX.

[FR Doc. 2017-12344 Filed 6-14-17; 8:45 am]

BILLING CODE 6560-50-P